ENVIRONMENTAL PROTECTION AGENCY

[FRL-6718-5]

Agency Information Collection Activities: Submission for OMB Review; Comment Request; Indoor Air Quality Practices in Large Buildings Survey

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Indoor Air Quality Practices in Large Buildings Survey. The ICR describes the nature of the information collection and its expected burden and cost; where appropriate, it includes the actual data collection instrument.

DATES: Comments must be submitted on or before July 19, 2000.

FOR FURTHER INFORMATION CONTACT: For a copy of the ICR contact Sandy Farmer at EPA by phone at (202) 260-2740, by email at farmer.sandy@epamail.epa.gov, or download off the Internet at http://www.epa.gov/icr and refer to EPA ICR No. 1917.01. For technical questions about the ICR contact Lee Salmon at EPA by phone at (202) 564-9451.

SUPPLEMENTARY INFORMATION: Title: Indoor Air Quality Practices in Large Buildings Survey, EPA ICR No. 1917.01). This is a new collection.

Abstract: As part of its authorization under Title IV of the SARA, 1986, EPA has been working to promote more effective approaches for identifying and solving indoor air quality (IAQ) problems and has developed guidance for that purpose.

The Indoor Air Quality Practices in Large Buildings Survey will allow EPA to determine the extent to which elements of its guidance have been incorporated into U.S. building management. These data are essential for measuring the effectiveness of EPA's efforts to encourage good IAQ-management practices in large buildings against the Agency's established Government Performance Review Act (GPRA) goal. By the year 2005, EPA wishes to demonstrate a five percent increase in the number of large buildings (defined as over 50,000 square feet) that use IAQ-management practices.

To determine its success in achieving this goal, EPA intends to survey owners and managers of commercial and Federally-owned large buildings on a variety of IAQ practices. The Agency will mail a survey and instructions for completing it to approximately 4,150 building owners and managers. The initial survey will establish a baseline for the use rate of IAQ-related practices recommended in EPA's guidance. EPA intends to conduct another survey in 2005 to assess changes in the use of these practices.

The Indoor Air Quality Practices in Large Buildings Survey is voluntary. EPA does not expect to receive confidential information from the large-building owners or managers participating in the Survey. However, if a respondent does consider the information submitted to be of a proprietary nature, EPA will assure its confidentiality based on the provisions of 40 CFR part 2, subpart B, “Confidentiality of Business Information.”

An Agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 4, 2000; one comment was received.

Burden Statement: The annual public reporting and record-keeping burden for this collection of information is estimated to average 1.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: owners and managers of buildings of 50,000 sq. ft.

Estimated Number of Respondents: 1,796.

Frequency of Response: This is a one time action.

Estimated Total Annual Hour Burden: 1,078 hours.

Estimated Total Annualized Capital and O&M Cost Burden: $0.

Send comments on the Agency's need for this information, the accuracy of the provided burden estimates, and any suggested methods for minimizing respondent burden, including through the use of automated collection techniques to the following addresses. Please refer to EPA ICR No. 1917.01 in any correspondence.

Ms. Sandy Farmer, U.S. Environmental Protection Agency, Office of Environmental Information, Collection Strategies Division (2822), 1200 Pennsylvania Avenue, NW., Washington, DC 20460;

and

Office of Information and Regulatory Affairs, Office of Management and Budget, Attention: Desk Officer for EPA, 725 17th Street, NW., Washington, DC 20503.

Dated: June 6, 2000.
Oscar Morales,
Director, Collection Strategies Division.

[FR Doc. 00-15398 Filed 6-16-00; 8:45 am]

BILLING CODE 6560-50-P